NUCLEAR REGULATORY COMMISSION

[IA-08-023; ASLBP No. 09-882-02-EA-BD01]

In the Matter of Himat Soni; Establishment of Atomic Safety and Licensing Board

Pursuant to delegation by the Commission dated December 29, 1972, published in the Federal Register, 37 FR 28710 (1972), and the Commission's regulations, see 10 CFR 2.104, 2.202, 2.300, 2.303, 2.309, 2.311, 2.318, and 2.321, notice is hereby given that an Atomic Safety and Licensing Board is being established to preside over the following proceeding:

In the Matter of Himat Soni; (Enforcement Action)

This proceeding concerns a request for a hearing submitted on March 13, 2009 by the law firm of Akerman Senterfitt on behalf of Mr. Himat Soni in response to a February 10, 2009 “NRC Staff Order Prohibiting Involvement in NRC-Licensed Activities,” 74 FR 7932 (Feb. 20, 2009). Under the terms of that Order, the Staff concluded that Mr. Himat Soni, the President and Radiation Safety Officer of Eastern Testing and Inspection, Inc. (ETI), violated 10 CFR 30.10, which states, in part, that any Licensee or employee of a Licensee may not engage in deliberate misconduct that causes a Licensee to be in violation of any rule, regulation, or order issued by the Commission. The Order therefore prohibits Mr. Himat Soni from any involvement in NRC-licensed activities for a period of one year from the effective date of the Order.

The Board is comprised of the following administrative judges:

Ann Marshall Young, Chair, U.S. Nuclear Regulatory Commission, Washington, DC 20555-0001.

Paul B. Abramson, U.S. Nuclear Regulatory Commission, Washington, DC 20555-0001.

Bruce R. Matthews, U.S. Nuclear Regulatory Commission, Washington, DC 20555-0001.

All correspondence, documents, and other materials shall be filed in accordance with the NRC E-filing rule, which the NRC promulgated in August 2007. See 72 FR 49139 (Aug. 28, 2007).

Issued at Rockville, Maryland, this 26th day of March 2009.
E. Roy Hawkens,
Chief Administrative Judge, Atomic Safety and Licensing Board Panel.

[FR Doc. E9-7284 Filed 3-31-09; 8:45 am]

BILLING CODE 7590-01-P